DEPARTMENT OF ENERGY

Federal Energy Regulatory Commission

Combined Notice of Filings #1

Take notice that the Commission received the following electric rate filings:

Docket Numbers: ER16-1404-008.

Applicants: New York Independent System Operator, Inc.

Description: Compliance filing: Compliance: BSM Rules SSE to be effective 2/20/2021.

Filed Date: 5/27/21.

Accession Number: 20210527-5297.

Comments Due: 5 p.m. ET 6/17/21.

Docket Numbers: ER21-460-001.

Applicants: PJM Interconnection, L.L.C.

Description: Compliance filing: Compliance in Docket Nos. EL20-56 and ER21-460 to be effective 9/23/2020.

Filed Date: 5/27/21.

Accession Number: 20210527-5285.

Comments Due: 5 p.m. ET 6/17/21.

Docket Numbers: ER21-700-002.

Applicants: Midcontinent Independent System Operator, Inc.

Description: Compliance filing: 2021-05-27_Emergency Pricing Effective Date Extension Request to be effective N/A.

Filed Date: 5/27/21.

Accession Number: 20210527-5294.

Comments Due: 5 p.m. ET 6/17/21.

Docket Numbers: ER21-1211-001.

Applicants: PJM Interconnection, L.L.C.

Description: Compliance filing: Compliance re: Surety Bonds as Form of Collateral to be effective 5/1/2021.

Filed Date: 5/28/21.

Accession Number: 20210528-5164.

Comments Due: 5 p.m. ET 6/18/21.

Docket Numbers: ER21-1535-001.

Applicants: PJM Interconnection, L.L.C.

Description: Tariff Amendment: Errata to Notice of Cancellation of ISA No. 4810 in Docket No. ER21-1535-000 to be effective 9/27/2017.

Filed Date: 5/27/21.

Accession Number: 20210527-5319.

Comments Due: 5 p.m. ET 6/17/21.

Docket Numbers: ER21-2020-000.

Applicants: Potomac Electric Power Company, PJM Interconnection, L.L.C.

Description: § 205(d) Rate Filing: Pepco Submits Revisions to PJM Tariff, Attachment H-9A to be effective 8/1/2021.

Filed Date: 5/27/21.

Accession Number: 20210527-5300.

Comments Due: 5 p.m. ET 6/17/21.

Docket Numbers: ER21-2020-001.

Applicants: Potomac Electric Power Company, PJM Interconnection, L.L.C.

Description: Tariff Amendment: Amendment to Pepco Submits Revisions to PJM Tariff, Attachment H-9A to be effective 8/1/2021.

Filed Date: 5/27/21.

Accession Number: 20210527-5318.

Comments Due: 5 p.m. ET 6/17/21.

Docket Numbers: ER21-2021-000.

Applicants: Idaho Power Company.

Description: Tariff Cancellation: Cancellation of Concurrence re IPC/Northwestern—Peterson Flats Substation to be effective 6/1/2021.

Filed Date: 5/27/21.

Accession Number: 20210527-5306.

Comments Due: 5 p.m. ET 6/17/21.

Docket Numbers: ER21-2022-000.

Applicants: Public Service Company of New Mexico.

Description: § 205(d) Rate Filing: PIA with Aragonne Wind LLC to be effective 4/28/2021.

Filed Date: 5/27/21.

Accession Number: 20210527-5313.

Comments Due: 5 p.m. ET 6/17/21.

Docket Numbers: ER21-2023-000.

Applicants: Baltimore Gas and Electric Company, PJM Interconnection, L.L.C.

Description: § 205(d) Rate Filing: BGE Submits Revisions to PJM Tariff, Attachment H-2A to be effective 8/1/2021.

Filed Date: 5/27/21.

Accession Number: 20210527-5316.

Comments Due: 5 p.m. ET 6/17/21.

Docket Numbers: ER21-2024-000.

Applicants: PJM Interconnection, L.L.C.

Description: § 205(d) Rate Filing: Original WMPA, Service Agreement No. 6080; Queue No. AF2-274 to be effective 5/4/2021.

Filed Date: 5/28/21.

Accession Number: 20210528-5102.

Comments Due: 5 p.m. ET 6/18/21.

Docket Numbers: ER21-2025-000.

Applicants: Tampa Electric Company.

Description: Request for Waiver, et al. of Tampa Electric Company.

Filed Date: 5/27/21.

Accession Number: 20210527-5338.

Comments Due: 5 p.m. ET 6/17/21.

Docket Numbers: ER21-2026-000.

Applicants: New England Power Pool Participants Committee.

Description: § 205(d) Rate Filing: June 2021 Membership Filing to be effective 5/1/2021.

Filed Date: 5/28/21.

Accession Number: 20210528-5181.

Comments Due: 5 p.m. ET 6/18/21.

Docket Numbers: ER21-2027-000.

Applicants: Southwestern Public Service Company.

Description: § 205(d) Rate Filing: Lubbock PR Agreement Protocol Amendment to be effective 6/1/2021.

Filed Date: 5/28/21.

Accession Number: 20210528-5218.

Comments Due: 5 p.m. ET 6/18/21.

Docket Numbers: ER21-2028-000.

Applicants: Tucson Electric Power Company.

Description: § 205(d) Rate Filing: Service Agreement For Network Integration Transmission Service to be effective 5/1/2021.

Filed Date: 5/28/21.

Accession Number: 20210528-5236.

Comments Due: 5 p.m. ET 6/18/21.

Docket Numbers: ER21-2029-000.

Applicants: NorthWestern Corporation.

Description: § 205(d) Rate Filing: SA 901—NITSA with Western Area Power Administration to be effective 8/1/2021.

Filed Date: 5/28/21.

Accession Number: 20210528-5259.

Comments Due: 5 p.m. ET 6/18/21.

Docket Numbers: ER21-2030-000.

Applicants: Southern California Edison Company.

Description: Tariff Cancellation: First Amended LGIA Desert Quartzite, LLC & Notice of Termination of the eTariff to be effective 4/30/2021.

Filed Date: 5/28/21.

Accession Number: 20210528-5268.

Comments Due: 5 p.m. ET 6/18/21.

Docket Numbers: ER21-2031-000.

Applicants: Cross-Sound Cable Company, LLC.

Description: Baseline eTariff Filing: CSC Schedule 17 Filing to be effective 6/1/2021.

Filed Date: 5/28/21.

Accession Number: 20210528-5278.

Comments Due: 5 p.m. ET 6/18/21.

Docket Numbers: ER21-2032-000.

Applicants: PJM Interconnection, L.L.C.

Description: § 205(d) Rate Filing: Amendment to WMPA, Service Agreement No. 5523; Queue No. AE1-162 to be effective 10/29/2019.

Filed Date: 5/28/21.

Accession Number: 20210528-5293.

Comments Due: 5 p.m. ET 6/18/21.

Docket Numbers: ER21-2033-000.

Applicants: PJM Interconnection, L.L.C.

Description: Tariff Cancellation: Notice of Cancellation of WMPA, SA No. 5495; Queue No. AE1-124 re: withdrawal to be effective 6/28/2021.

Filed Date: 5/28/21.

Accession Number: 20210528-5310.

Comments Due: 5 p.m. ET 6/18/21.

Docket Numbers: ER21-2034-000.

Applicants: PJM Interconnection, L.L.C.

Description: § 205(d) Rate Filing: Amendment to WMPA, Service Agreement No. 4033; Queue No. X3-008 to be effective 11/3/2014.

Filed Date: 5/28/21.

Accession Number: 20210528-5322.

Comments Due: 5 p.m. ET 6/18/21.

Docket Numbers: ER21-2035-000.

Applicants: New York Independent System Operator, Inc., Niagara Mohawk Power Corporation.

Description: § 205(d) Rate Filing: Joint 205 SGIA among NYISO, NMPC and Rock District SA No. 2662 to be effective 5/18/2021.

Filed Date: 5/28/21.

Accession Number: 20210528-5348.

Comments Due: 5 p.m. ET 6/18/21.

Docket Numbers: ER21-2036-000.

Applicants: Pacific Gas and Electric Company.

Description: § 205(d) Rate Filing: May 2021 Western WDT Service Agreement Biannual Filing (SA 17) to be effective 8/1/2021.

Filed Date: 5/28/21.

Accession Number: 20210528-5371.

Comments Due: 5 p.m. ET 6/18/21.

Docket Numbers: ER21-2037-000.

Applicants: Pacific Gas and Electric Company.

Description: § 205(d) Rate Filing: May 2021 Western Interconnection Biannual Filing (TO SA 59) to be effective 8/1/2021.

Filed Date: 5/28/21.

Accession Number: 20210528-5372.

Comments Due: 5 p.m. ET 6/18/21.

Take notice that the Commission received the following PURPA 210(m)(3) filings:

Docket Numbers: QM21-22-000.

Applicants: Basin Electric Power Cooperative, Inc.

Description: Application of Basin Electric Power Cooperative to Terminate Its Mandatory Purchase Obligation under the Public Utility Regulatory Policies Act of 1978.

Filed Date: 5/28/21.

Accession Number: 20210528-5224.

Comments Due: 5 p.m. ET 6/25/21.

Docket Numbers: QM21-23-000.

Applicants: Basin Electric Power Cooperative, Inc.

Description: Application of Basin Electric Power Cooperative to Terminate Its Mandatory Purchase Obligation under the Public Utility Regulatory Policies Act of 1978.

Filed Date: 5/28/21.

Accession Number: 20210528-5227.

Comments Due: 5 p.m. ET 6/25/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 28, 2021.
Debbie-Anne A. Reese,
Deputy Secretary.

[FR Doc. 2021-11748 Filed 6-3-21; 8:45 am]

BILLING CODE 6717-01-P